DEPARTMENT OF DEFENSE

Department of the Army, Corps of Engineers

33 CFR Part 326

RIN 0710-AA66

Civil Monetary Penalty Inflation Adjustment

AGENCY: U.S. Army Corps of Engineers, DoD.

ACTION: Proposed rule.

SUMMARY: The U.S. Army Corps of Engineers (Corps) is proposing to amend its regulations to adjust its Class I civil penalties under the Clean Water Act and the National Fishing Enhancement Act to account for inflation. The adjustment of civil penalties to account for inflation is required by the Federal Civil Penalties Inflation Adjustment Act of 1990, as amended. Since we have not made any adjustments to our Class I penalties to account for inflation since 2004, we are proposing to make a second round of penalty adjustments to account for inflation. Using the adjustment criteria provided in the statute, the Class I civil penalty under the Clean Water Act would remain at $11,000 per violation, but the maximum civil penalty would increase to $32,500. Under the National Fishing Enhancement Act, the Class I civil penalty would remain at $11,000 per violation. Increasing the maximum amount of the Class I civil penalty under the Clean Water Act to account for inflation will maintain the deterrent effects of the penalty.

DATES: Comments must be received by February 27, 2013.

FOR FURTHER INFORMATION CONTACT: Mr. David Olson at 202-761-4922 or by email at david.b.olson@usace.army.mil or access the U.S. Army Corps of Engineers Regulatory Home Page at http://www.usace.army.mil/Missions/CivilWorks/RegulatoryProgramandPermits.aspx.

SUPPLEMENTARY INFORMATION: This document concerns the adjustment of the Class I civil penalties under the Clean Water Act and the National Fishing Enhancement Act to account for inflation. For further information, including instructions on how to submit comments, please see the information provided in the direct final rule that is located in the “Rules and Regulations” section of this Federal Register publication.

Dated: January 22, 2013.
Jo-Ellen Darcy,
Assistant Secretary of the Army (Civil Works).

[FR Doc. 2013-01656 Filed 1-25-13; 8:45 am]

BILLING CODE 3720-58-P